DEPARTMENT OF JUSTICE

Antitrust Division

Notice Pursuant to the National Cooperative Research and Production Act of 1993—National Consumer Panel, LLC

Notice is hereby given that, on October 5, 2009, pursuant to Section 6(a) of the National Cooperative Research and Production Act of 1993, 15 U.S.C. 4301 et seq. (“the Act”),the National Consumer Panel, LLC has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identity of the parties to the venture are: The Nielsen Company (“Nielsen”), New York, NY; and Information Resources, Inc. (“IRI”), Chicago, IL. The general area of The National Consumer Panel's planned activity is to collect consumer panel data for Nielsen and IRI to use in creating and providing their respective products.

Patricia A. Brink,
Deputy Director of Operations, Antitrust Division.

[FR Doc. E9-25630 Filed 10-26-09; 8:45 am]

BILLING CODE 4410-11-M